SURFACE TRANSPORTATION BOARD

[Docket No. FD 36379]

Louisiana & Delta Railroad, Inc.—Lease Amendment and Operation Exemption—Union Pacific Railroad Company

Louisiana & Delta Railroad, Inc. (LDRR), a Class III railroad, has filed a verified notice of exemption under 49 U.S.C. 10902 to amend, supersede, and replace the leases entered into between LDRR and Union Pacific Railroad Company (UP) on January 17, 1992, and subsequently amended. Specifically, LDRR states that it wishes to consolidate two existing lease agreements, the Lockport Branch Line Lease and the Breaux Bridge Lines Lease, into a single agreement with UP (the Consolidated Lease). The Consolidated Lease covers (1) milepost 0.35 at or near BR Jct, to the end of track at milepost 7.78 being the west line of Berard Street at or near Breaux Bridge (Breaux Bridge Branch); (2) the switch on the Breaux Bridge line near milepost 7.678 to a point on the St. Martinsville Branch near milepost 19.381 to the end of track at milepost 19.680 (St. Martinsville Branch); (3) milepost 0.50 at or near Alex. Jct, to the end of track at milepost 1.00, also including the Extension Track from milepost 144.90 to milepost 145.30 (Alexandria Branch); and (4) milepost 0.1 at Raceland Junction, La., to milepost 1.7 (collectively, the Line).¹ LDRR further states that segments (1), (2), and (3) of the Line are near Lafayette, La., and segment (4) is near Lockport, La. The total mileage covered by the Consolidated Lease is approximately 10.43 miles.

¹ LDRR initially submitted the verified notice on January 16, 2020. On February 5, 2020, LDRR filed a supplement to clarify the location of the Line and provide more detailed maps. In light of that supplement, February 5, 2020, is deemed the filing date of the verified notice.

LDRR has certified that the transaction does not involve any provision or agreement that would limit future interchange with a third-party connecting carrier. LDRR states that its projected annual revenues as a result of this transaction will not result in LDRR's becoming a Class II or Class I rail carrier. Additionally, LDRR certifies that its total revenues exceed $5 million. Pursuant to 49 CFR 1150.42(e), if a carrier's projected annual revenues will exceed $5 million, it must, at least 60 days before the exemption becomes effective, post a notice of its intent to undertake the proposed transaction at the workplace of the employees on the affected lines, serve a copy of the notice on the national offices of the labor unions with employees on the affected lines, and certify to the Board that it has done so. However, LDRR's verified notice includes a request for waiver of the 60-day advance labor notice requirements. LDRR's waiver request will be addressed in a separate decision.

The verified notice states that LDRR and UP entered into the Consolidated Lease agreement on January 1, 2020. LDRR states that it expects to consummate the transaction on the effective date of this exemption. The Board will establish the effective date in its separate decision on the waiver request.

If the verified notice contains false or misleading information, the exemption is void ab initio. Petitions to revoke the exemption under 49 U.S.C. 10502(d) may be filed at any time. The filing of a petition to revoke will not automatically stay the effectiveness of the exemption. Petitions for stay must be filed no later than February 28, 2020.

All pleadings, referring to Docket No. FD 36379, must be filed with the Surface Transportation Board either via e-filing or in writing addressed to 395 E Street SW, Washington, DC 20423-0001. In addition, a copy of each pleading must be served on LDRR's representative, Eric M. Hocky, Clark Hill, PLC, Two Commerce Square, 2001 Market St., Suite 2620, Philadelphia, PA 19103.

According to LDRR, this action is categorically excluded from environmental review under 49 CFR 1105.6(c) and from historic preservation reporting requirements under 49 CFR 1105.8(b).

Board decisions and notices are available at www.stb.gov.

Decided: February 18, 2020.
By the Board, Scott M. Zimmerman, Acting Director, Office of Proceedings.
Tammy Lowery,
Clearance Clerk.

[FR Doc. 2020-03494 Filed 2-20-20; 8:45 am]

BILLING CODE 4915-01-P